Title 3—

The President

Proclamation 9523 of October 14, 2016

National Character Counts Week, 2016

By the President of the United States of America

A Proclamation

Our country has survived centuries of trial and triumph, and we have endured times that have tested us and marked moments of progress that were once deemed impossible. Today, we live in a time of extraordinary possibility—and we must decide how our next chapters will be written. The task of shaping America's course falls to each one of us as individuals who make up our American family, and as we celebrate National Character Counts Week, let us seek to live out the ideals that have inspired our country's journey and that define our national character.

No matter who you are, what you look like, where you come from, or what your circumstances are, America should be a place where the things that make you unique and different are celebrated. That promise of equality and acceptance has been our country's North Star since its founding, and in thinking of how that centuries-old ideal translates into our lives today, it comes down to all of us showing others the compassion and acceptance that we would only wish for ourselves. If we seek to understand one another and take advantage of opportunities to bring people together across lines of difference, we will increasingly realize as a people that we are more alike than we are different.

Let us listen to each other, see each other, and recognize the common humanity that makes America what it is. Let us embrace the multitudes of races, faiths, cultures, and origins that make up our diverse, vibrant Nation. It will make us better as a people and stronger as a country, and it starts with reflecting on the way we live our lives, the way we treat others, and the example we set for those around us. We have a collective obligation to reflect in our own lives the values we strive to reflect in our national life, and no gesture of goodwill is too small—together, ripples of kindness can drown out voices of hate, wash away cynicism and doubt, and help us see the world in truer colors.

NOW, THEREFORE, I, BARACK OBAMA, President of the United States of America, by virtue of the authority vested in me by the Constitution and the laws of the United States, do hereby proclaim October 16 through October 22, 2016, as National Character Counts Week. I call upon public officials, educators, parents, students, and all Americans to observe this week with appropriate ceremonies, activities, and programs.

IN WITNESS WHEREOF, I have hereunto set my hand this fourteenth day of October, in the year of our Lord two thousand sixteen, and of the Independence of the United States of America the two hundred and forty-first.

[FR Doc. 2016-25480

Filed 10-18-16; 11:15 am]

Billing code 3295-F7-P